DEPARTMENT OF THE INTERIOR

National Park Service

Notice of Intent to Repatriate a Cultural Item: San Diego Museum of Man, San Diego, CA

AGENCY: National Park Service, Interior.

ACTION: Notice.

Notice is here given in accordance with the Native American Graves Protection and Repatriation Act (NAGPRA), 25 U.S.C. 3005, of the intent to repatriate a cultural item in the possession of the San Diego Museum of Man, San Diego, CA, that meets the definition of “unassociated funerary object” under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

The one fragmented textile (museum No. 1963-5-1) was found in a Yokut cemetery at the south end of Buena Vista Lake, Kern County, CA. The textile is contained in a frame with a note on the back of the frame stating, “Found in May 1935 by Edwin F. Walker in a Yokuts cemetery 25 feet above the shoreline of Buena Vista Lake, Kern County, California, and 1,000 feet north of shoreline at outlet of the lake.” The textile was received at the San Diego Museum of Man in 1963.

Museum records clearly indicate that the textile was found in a Yokut cemetery. Further information from the back of the frame states, “Found...in square F/70, burial H, Depth 45 - disturbed burial of an adult, elderly, flexed, head to west, fabric wrapped around legs, no other material.” There are no known associated human remains in the museum's collection. The Santa Rosa Indian Community of the Santa Rosa Rancheria, California provided the museum with territory and language family maps, written ethnographical information about the Yokuts and their inter-relationships with surrounding communities, which covers the territory where the unassociated funerary object was discovered. Based on consultation, the museum was able to determine that the Santa Rosa Indian Community of the Santa Rosa Rancheria, California has a shared group identity with the unassociated funerary object.

Officials of the San Diego Museum of Man have determined that, pursuant to 25 U.S.C. 3001 (3)(B), the one cultural item described above is reasonably believed to have been placed with or near individual human remains at the time of death or later as part of the death rite or ceremony and is believed, by a preponderance of the evidence, to have been removed from a specific burial site of a Native American individual. Officials of the San Diego Museum of Man also have determined that, pursuant to 25 U.S.C. 3001 (2), there is a relationship of shared group identity that can be reasonably traced between the unassociated funerary object and the Santa Rosa Indian Community of the Santa Rosa Rancheria, California.

Representatives of any other Indian tribe that believes itself to be culturally affiliated with the unassociated funerary object should contact Philip Hoog, Archaeology and NAGPRA Coordinator, San Diego Museum of Man, 1350 El Prado, Balboa Park, San Diego, CA 92101, telephone (619) 239-2001, before November 27, 2009. Repatriation of the unassociated funerary object to the Santa Rosa Indian Community of the Santa Rosa Rancheria, California may proceed after that date if no additional claimants come forward.

The San Diego Museum of Man is responsible for notifying the Santa Rosa Indian Community of the Santa Rosa Rancheria, California that this notice has been published.

Dated: October 7, 2009
Sherry Hutt,
Manager, National NAGPRA Program.

[FR Doc. E9-25965 Filed 10-27-09; 8:45 am]

BILLING CODE 4312-50-S